NUCLEAR REGULATORY COMMISSION

[NRC-2011-0230]

Biweekly Notice Applications and Amendments to Facility Operating Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from September 7, 2011, to September 21, 2011. The last biweekly notice was published on September 20, 2011 (76 FR 58303).

ADDRESSES: Please include Docket ID NRC-2011-0230 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2011-0230. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web site: Public comments and supporting materials related to this notice can be found at http://www.regulations.gov by searching on Docket ID NRC-2011-0230.

Notice of Consideration of Issuance of Amendments to Facility Operating Licenses, Proposed No Significant Hazards Consideration Determination, And Opportunity for a Hearing

The Commission has made a proposed determination that the following amendment requests involve no significant hazards consideration. Under the Commission's regulations in Title 10 of the Code of Federal Regulations (10 CFR), 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's ”Rules of Practice for Domestic Licensing Proceedings” in 10 CFR part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by e-mail at hearing.docket@nrc.gov, or by telephone at 301-415-1677, to request (1) A digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by e-mail to pdr.resource@nrc.gov.

Arizona Public Service Company, et al., Docket Nos. STN 50-528, STN 50-529, and STN 50-530, Palo Verde Nuclear Generating Station, Units 1, 2, and 3, Maricopa County, Arizona

Date of Amendment Request: June 22, 2011.

Description of Amendment Request: The amendments would revise Technical Specification (TS) 3.7.4, “Atmospheric Dump Valves (ADVs).” Specifically, the amendment would revise the Limiting Condition for Operation for TS 3.7.4, with corresponding revisions to the TS Conditions, Required Actions, and Completion Times associated with one or more inoperable ADV lines. The proposed change would require four ADV lines to be operable in MODES 1, 2, and 3, as well as in MODE 4 when a steam generator (SG) is relied upon for heat removal.

Basis for Proposed No Significant Hazards Consideration Determination: As required by 10 CFR 50.91(a), the licensee has provided its analysis of the issue of no significant hazards consideration, which is presented below:

1. Does the proposed amendment involve a significant increase in the probability or consequences of an accident previously evaluated?

Response: No.

The proposed amendment will revise TS 3.7.4, to require four ADV lines be OPERABLE in MODES 1, 2, and 3, as well as in MODE 4, when a SG is relied upon for heat removal. The proposed change to TS 3.7.4 is consistent with the PVNGS UFSAR [Updated Final Safety Analysis Report] Chapters 6 and 15 safety analyses. The proposed change does not involve any design or physical changes to the facility, including the ADV lines and their associated ADVs, block valves, pneumatic controllers, instrument power circuits, or control circuits. The design and functional performance requirements, operational characteristics, and reliability of the ADV lines remain unchanged. Therefore, there is no impact on the design safety function of the ADVs to open (which mitigates certain postulated accidents by providing Reactor Coolant System heat removal) nor on the design safety function of the ADVs to close (which mitigates certain postulated accidents by providing containment isolation). Furthermore, there is no change with respect to an inadvertent opening of an ADV (as a potential transient initiator).

With regard to the consequences of postulated design basis accidents and the equipment required for mitigation of those accidents, the proposed TS changes involve no design or physical changes to the ADV lines or any other equipment required for accident mitigation. The proposed ADV TS change does not affect any design basis analysis or the results of those analyses. The change provides additional assurance that ADVs will be available as required.

Therefore, the proposed change does not involve a significant increase in the probability or consequences of an accident previously analyzed.

2. Does the proposed change create the possibility of a new or different kind of accident from any accident previously evaluated?

Response: No.

The proposed amendment will revise TS 3.7.4, to require four ADV lines be OPERABLE in MODES 1, 2, and 3, as well as in MODE 4, when a SG is relied upon for heat removal. The proposed change to TS 3.7.4 is consistent with the PVNGS UFSAR Chapters 6 and 15 safety analyses. The proposed change does not involve any design or physical changes to the facility, including the ADV lines and their associated ADVs, block valves, pneumatic controllers, instrument power circuits, or control circuits. No physical alteration of the plant is involved. The proposed change does not involve or introduce any changes to plant procedures that could cause a new or different kind of accident from any previously evaluated. The proposed change ensures that the ADVs perform their intended functions during all design basis accidents for which they are credited. The proposed change does not involve the creation of any new or different kind of accident initiator. The proposed change does not create any new failure modes for the ADVs and does not affect the interaction between the ADVs and any other system.

Therefore, the proposed change does not create the possibility of a new or different kind of accident from any previously evaluated.

3. Does the proposed amendment involve a significant reduction in a margin of safety?

Response: No.

The proposed amendment will revise TS 3.7.4, to require four ADV lines be OPERABLE in MODES 1, 2, and 3, as well as in MODE 4, when a SG is relied upon for heat removal. The proposed change to TS 3.7.4 is consistent with the PVNGS UFSAR Chapters 6 and 15 safety analyses. The proposed change does not alter the manner in which safety limits or limiting safety system settings are determined. No changes to instrument and/or system actuation setpoints are involved. Safety and Branch Technical Position (BTP) RSB 5-1 analysis acceptance criteria are not impacted by this change and the proposed change will not permit plant operation in a configuration outside the design basis.

Therefore, the proposed change does not involve a significant reduction in the margin of safety.

The NRC staff has reviewed the licensee's analysis and, based on that review, it appears that the three standards of 10 CFR 50.92(c) are satisfied. Therefore, the NRC staff proposes to determine that the request for amendments involves no significant hazards consideration.

Attorney for Licensee: Michael G. Green, Senior Regulatory Counsel, Pinnacle West Capital Corporation, P.O. Box 52034, Mail Station 8695, Phoenix, Arizona 85072-2034.

NRC Branch Chief: Michael T. Markley.

Detroit Edison, Docket No. 50-341, Fermi 2, Monroe County, Michigan

Date of Amendment Request: August 12, 2011.

Description of Amendment Request: The proposed amendment would revise TS 3.8.3, “Diesel Fuel Oil and Starting Air,” by relocating the current stored diesel fuel oil numerical volume requirements from the Technical Specifications (TS) to the TS Bases so that it may be modified under licensee control. The TS is modified so that the stored diesel fuel oil inventory will require that a 7 day supply be available for each diesel generator. Condition A in the Action table and Surveillance Requirement (SR) 3.8.3.1 are revised to reflect the above change.

Basis for Proposed No Significant Hazards Consideration Determination: As required by 10 CFR 50.91(a), the licensee has provided its analysis of the issue of no significant hazards consideration, which is presented below:

1. Does the proposed change involve a significant increase in the probability or consequences of an accident previously evaluated?

Response: No

The proposed change relocates the volume of diesel fuel oil required to support 7 day operation of the onsite diesel generators, and the volume equivalent to a 6 day supply, to licensee control. The specific volume of fuel oil equivalent to a 7 and 6 day supply is calculated using the NRC-approved methodology described in Regulatory Guide 1.137, Revision 1, “Fuel-Oil Systems for Standby Diesel Generators” and ANSI-N195 1976, “Fuel Oil Systems for Standby Diesel-Generators” based on the diesel generator manufacturer's consumption values including consideration of minimum required energy content. Because the requirement to maintain a 7 day supply of diesel fuel oil is not changed and is consistent with the assumptions in the accident analyses, and the actions taken when the volume of fuel oil are less than a 6 day supply have not changed, neither the probability nor the consequences of any accident previously evaluated will be affected.

The proposed change also relocates the volume of diesel fuel oil required to support one hour of diesel generator operation at full load in the day tank. The specific volume and time is not changed and is consistent with the existing plant design basis to support the emergency diesel generator under accident loading conditions.

Therefore, the proposed change does not involve a significant increase in the probability or consequences of an accident previously evaluated.

2. Does the proposed change create the possibility of a new or different kind of accident from any accident previously evaluated?

Response: No

The change does not involve a physical alteration of the plant (i.e., no new or different type of equipment will be installed) or a change in the methods governing normal plant operation. The change does not alter assumptions made in the safety analysis but ensures that the diesel generator operates as assumed in the accident analysis. The proposed change is consistent with the safety analysis assumptions.

Therefore, the proposed change does not create the possibility of a new or different kind of accident from any accident previously evaluated.

3. Does the proposed change involve a significant reduction in a margin of safety?

Response: No

The proposed change relocates the volume of diesel fuel oil required to support 7 day operation of the onsite diesel generators, and the volume equivalent to a 6 day supply, and one hour day tank supply to licensee control. As the bases for the existing limits on diesel fuel oil are not changed, no change is made to the accident analysis assumptions and no margin of safety is reduced as part of this change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: Bruce R. Masters, DTE Energy, General Council—Regulatory, 688 WCB, One Energy Plaza, Detroit, MI 48226-1279.

NRC Branch Chief: Robert J. Pascarelli.

Entergy Operations, Inc., Docket No. 50-382, Waterford Steam Electric Station, Unit 3 (Waterford 3), St. Charles Parish, Louisiana

Date of amendment request: July 20, 2011.

Description of Amendment Request: Entergy Operations, Inc. (the licensee), will be replacing the two Waterford 3 steam generators (SGs) during the 18th refueling outage which will commence in the fall of 2012. The existing Waterford 3 Technical Specification (TS) 6.5.9, “Steam Generator (SG) Program,” contains an alternate repair criterion for SG tube inspections that is no longer applicable to the replacement SGs. Additionally, the replacement SGs will contain improved Alloy 690 thermally treated (TT) tubing material. Therefore, the SG tubing inservice inspection frequencies may be extended beyond that currently allowed by the Waterford TSs. The proposed amendment would modify TS 3/4.4.4, “Steam Generator (SG) Tube Integrity,” TS 6.5.9, and TS 6.9.1.5, “Steam Generator Tube Inspection Report,” to reflect the above changes.

Basis for Proposed No Significant Hazards Consideration Determination: As required by 10 CFR 50.91(a), the licensee has provided its analysis of the issue of no significant hazards consideration, which is presented below:

1. Does the proposed change involve a significant increase in the probability or consequences of an accident previously evaluated?

Response: No.

The proposed change continues to implement the Waterford 3 Steam Generator (SG) Program performance criteria for tube structural integrity, accident induced leakage, and operational leakage for the replacement SGs. Meeting the performance criteria provides reasonable assurance that the replacement SG tubing will remain capable of fulfilling its specific safety function of maintaining reactor coolant system (RCS) pressure boundary integrity throughout each operating cycle and in the unlikely event of a design basis accident.

Sufficient SG tube structural margin above the 40 [percent (%)] SG tube plugging criteria is retained for the replacement SGs to ensure that the probability of an accident is unchanged. The replacement SGs are designed with substantial margin to burst. Therefore, the proposed change does not affect the probability of a[n] SGTR [steam generator tube rupture] accident. The extension of the SG tube inspection frequency after initial inspection is based on the low likelihood of having potential tube flaws and is considered to be an acceptable inspection period to preserve pressure boundary integrity. As a result, there will be no affect on the previous dose analysis reported in the Updated Final Safety Analysis Report [(UFSAR)] and the consequences of any accident are unchanged.

Therefore, this change does not involve a significant increase in the probability or consequences of an accident previously evaluated.

2. Does the proposed change create the possibility of a new or different kind of accident from any accident previously evaluated?

Response: No.

Steam generator tube rupture events have already been postulated and analyzed in the Waterford 3 [UFSAR]. The improved Alloy 690TT SG tubing material in the Waterford 3 replacement SG reduces the likelihood of creating new or different types of tubing flaws. The proposed changes do not reduce the design requirements of the SG tubes that would affect the current accident analysis. The proposed amendment does not impact any other plant systems or components. The SG tube inspection TS requirements assure that potential tubing flaws will be detected prior to affecting tube integrity and the RCS pressure boundary.

Therefore, the proposed change does not create the possibility of a new or different kind of accident from any previously evaluated.

3. Does the proposed change involve a significant reduction in a margin of safety?

Response: No.

The structural integrity, accident induced leakage, and operational leakage performance criteria required by the Waterford 3 technical specifications provide substantial design margin for assuring SG tube integrity against the possibility of a[n] SG tube pressure boundary failure. The analyzed 55% structural limit provides sufficient margin above the SG tube plugging criteria of 40% for consideration of eddy current measurement uncertainty and allowance for inspection cycle flaw growth. The proposed change removes an existing alternate repair criterion that is not applicable to the replacement SGs and establishes appropriate SG tube subsequent inspection periods consistent with the new SG tubing design. The replacement SGs will continue to meet their required performance criteria. The Waterford 3 SG tube inspection program will assure that this margin is maintained through the operational life of the plant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: Joseph A. Aluise, Associate General Council—Nuclear, Entergy Services, Inc., 639 Loyola Avenue, New Orleans, Louisiana 70113.

NRC Branch Chief: Michael T. Markley.

Exelon Generation Company, LLC, Docket No. 50-461, Clinton Power Station, Unit 1, DeWitt County, Illinois

Date of Amendment Request: June 13, 2011.

Description of Amendment Request: The proposed amendment would revise the Limiting Condition for Operation (LCO) 3.1.2, “Reactivity Anomalies,” through a revision to the method for calculating core reactivity for the purpose of performing an anomaly check.

Basis for Proposed No Significant Hazards Consideration Determination: As required by 10 CFR 50.91(a), the licensee has provided its analysis of the issue of no significant hazards consideration which is presented below:

1. Does the proposed change involve a significant increase in the probability or consequences of an accident previously evaluated?

Response: No.

The proposed TS change does not affect any plant systems, structures, or components designed for the prevention or mitigation of previously evaluated accidents. The amendment would only change how the reactivity anomaly check is performed. Verifying that the core reactivity is consistent with predicted values ensures that accident and transient safety analyses remain valid. This amendment changes the LCO 3.1.2 and Surveillance Requirement (SR) 3.1.2.1 requirements such that the check is performed by a direct comparison of keff rather than by comparing predicted to actual control rod density. On-line core monitoring systems, such as the one currently in use at Clinton Power Station, Unit 1 (CPS), are capable of performing the direct measurement of reactivity.

Therefore, since the reactivity anomaly check will continue to be performed by a viable method, the proposed amendment does not involve a significant increase in the probability or consequence of any previously evaluated accident.

2. Does the proposed change create the possibility of a new or different kind of accident from any accident previously evaluated?

Response: No.

This TS amendment request does not involve any changes to the operation, testing, or maintenance of any safety-related or otherwise important to safety, system. All systems that are important to safety will continue to be operated and maintained within their design bases. The proposed changes to LCO 3.1.2 and SR 3.1.2.1 will only provide a new, efficient method of detecting an unexpected change in core reactivity.

Since all systems continue to be operated within their design bases, no new failure modes are introduced, nor is the possibility of a new or different kind of accident created.

3. Does the proposed change involve a significant reduction in a margin of safety?

Response: No.

This proposed TS amendment proposes to change the method for performing the reactivity anomaly surveillance from a comparison of predicted to actual control rod density to a comparison of predicted to actual keff. The direct comparison of keff provides a more direct method of calculating any differences in the expected core reactivity. The reactivity anomaly check will continue to be performed at the same frequency as is currently required by the TS, only the method of performing the check will be changed. Consequently, core reactivity assumptions made in safety analyses will continue to be adequately verified.

Therefore, the proposed amendment does not therefore involve a significant reduction in a margin of safety.

The NRC staff has reviewed the licensee's analysis and, based on this review, it appears that the three standards of 10 CFR 50.92(c) are satisfied. Therefore, the NRC staff proposes to determine that the amendment request involves no significant hazards consideration.

Attorney for Licensee: Mr. Bradley J. Fewell, Associate General Counsel, Exelon Generation Company, LLC, 4300 Winfield Road, Warrenville, IL 60555.

NRC Branch Chief: Jacob I. Zimmerman.

Indiana Michigan Power Company (the licensee), Docket Nos. 50-315 and 50-316, Donald C. Cook Nuclear Plant (CNP), Units 1 and 2, Berrien County, Michigan

Date of amendment request: July 1, 2011, as supplemented on September 2, 2011.

Description of amendment request: Currently CNP Units 1 and 2 have a fire protection program that is based on compliance with 10 CFR 50.48(a), 10 CFR 50.48(b), 10 CFR Part 50, Appendix R, NRC guidance document Branch Technical Position APCSB 9.5-1 Appendix A, and a license condition for each unit. The proposed amendment would transition the CNP fire protection program to a new risk-informed, performance-based alternative per 10 CFR 50.48(c) which incorporates by reference the National Fire Protection Association (NFPA) Standard 805 (NFPA 805), “Performance-Based Standard for Fire Protection for Light Water Reactor Electric Generating Plants—2001.” In the rulemaking that led to promulgation of 10 CFR 50.48(c), the NRC stated that NFPA 805 provides an acceptable alternative to 10 CFR 50.48(b), and satisfies 10 CFR 50.48(a) and General Design Criterion 3 of Appendix A to 10 CFR Part 50. Upon approval of the transition to NFPA 805, the CNP licensing basis per 10 CFR 50.48(b) and 10 CFR Part 50, Appendix R will be superseded. To achieve the transition to the new requirements outlined in NFPA 805, the licensee is implementing the methodology identified in Nuclear Energy Institute (NEI) document 04-02, “Guidance for Implementing a Risk-informed, Performance-Based Fire Protection Program Under 10 CFR 50.48(c).”

Basis for Proposed No Significant Hazards Consideration Determination: As required by 10 CFR 50.91(a), the licensee has provided its analysis of the issue of no significant hazards consideration. The NRC staff performed its own analysis, which is presented below:

1. Does the proposed change involve a significant increase in the probability or consequences of an accident previously evaluated?

Response: No.

Upon approval by the NRC staff, the risk-informed and performance-based NFPA 805 fire protection program will provide the same level of safety as the current licensing basis. None of the accidents evaluated in the CNP Updated Final Safety Analysis Report (UFSAR) were postulated to be initiated by fire protection equipment or elements of the fire protection program. Thus, the proposed transition of the fire protection licensing basis to NFPA 805 will not involve any change, increase or decrease, in the probability of previously evaluated accidents.

Elements or equipment of the CNP fire protection program have no impact in the evaluation of the consequences of accidents in the UFSAR; thus, the consequences of the previously evaluated accidents will remain the same regardless of whether the current fire protection licensing basis or NFPA 805 is in place.

Therefore, the proposed licensing basis change will not lead to any change, increase or decrease, of the consequences of previously evaluated accidents.

2. Does the proposed change create the possibility of a new or different kind of accident from any accident previously evaluated?

Response: No.

The proposed change of the fire protection licensing basis to NFPA 805 pertains only to the fire protection program and equipment (e.g., modifying fire wrap, modifying control circuitry of certain fire protection systems, changing the carbon dioxide system from manual actuation to automatic). The proposed change does not affect structures, systems, or components that were involved with previously evaluated accidents.

Therefore, the proposed change does not create the possibility of a new or different kind of accident from any previously evaluated.

3. Does the proposed change involve a significant reduction in a margin of safety?

Response: No.

The proposed change does not alter the manner in which safety limits, limiting safety system settings, or limiting conditions for operation are determined. The proposed change does not involve any safety analysis acceptance criteria in the current CNP licensing basis, and does not adversely affect existing plant safety margins or the reliability of equipment assumed to mitigate accidents in the UFSAR.

Therefore, the proposed change does not involve a significant reduction in a margin of safety.

The NRC staff has reviewed the licensee's analysis and, based on the NRC staff's own analysis, it appears that the three standards of 10 CFR 50.92(c) are satisfied. Therefore, the NRC staff proposes to determine that the proposed amendment involves no significant hazards consideration.

Attorney for Licensee: James M. Petro, Jr., Senior Nuclear Counsel, Indiana Michigan Power Company, One Cook Place, Bridgman, MI 49106.

NRC Branch Chief: Robert J. Pascarelli.

Luminant Generation Company LLC, Docket Nos. 50-445 and 50-446, Comanche Peak Nuclear Power Plant, Units 1 and 2, Somervell County, Texas

Date of Amendment Request: August 1, 2011, as supplemented by letter dated August 17, 2011.

Brief Description of Amendments: The proposed change requests the adoption of an approved change to the Standard Technical Specifications (STS) for Westinghouse Plants (NUREG-1431), to allow relocation of specific technical specification (TS) surveillance frequencies to a licensee-controlled program. The proposed change is described in and consistent with the U.S. Nuclear Regulatory Commission (NRC)-approved Technical Specification Task Force (TSTF) Traveler 425-A, Revision 3, “Relocate Surveillance Frequencies to Licensee Control—Risk Informed Technical Specifications Task Force (RI-TSTF) Initiative 5b” (Agencywide Documents Access and Management System (ADAMS) Accession No. ML090850642). The Notice of Availability of TSTF-425, Revision 3 was published in the Federal Register on July 6, 2009 (74 FR 31996). The proposed change would relocate surveillance frequencies to a licensee-controlled program termed as the Surveillance Frequency Control Program (SFCP). This change is applicable to licensees using probabilistic risk guidelines contained in NRC-approved Nuclear Energy Institute (NEI) 04-10, Revision 1, “Risk-Informed Technical Specifications Initiative 5b, Risk-Informed Method for Control of Surveillance Frequencies” (ADAMS Accession No. ML071360456).

Basis for Proposed No Significant Hazards Consideration Determination: As required by 10 CFR 50.91(a), the licensee has provided its analysis of the issue of no significant hazards consideration (consistent with the no significant hazards consideration published in the Federal Register on July 6, 2009 (74 FR 31996) for TSTF-425, Revision 3), which is presented below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the Final Safety Analysis Report and Bases to TS), since these are not affected by changes to the surveillance frequencies. Similarly, there is no impact to safety analysis acceptance criteria as described in the plant licensing basis. To evaluate a change in the relocated surveillance frequency, Luminant Power [Luminant Generation Company LLC] will perform a probabilistic risk evaluation using the guidance contained in NRC approved NEI 04-10, Rev. 1 in accordance with the TS SFCP. NEI 04-10, Rev. 1, methodology provides reasonable acceptance guidelines and methods for evaluating the risk increase of proposed changes to surveillance frequencies consistent with Regulatory Guide 1.177 [“An Approach for Plant-Specific, Risk-Informed Decision-making: Technical Specifications,” August 1998 (ADAMS Accession No. ML003740176)].

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for Licensee: Timothy P. Matthews, Esq., Morgan, Lewis and Bockius, 1800 M Street, NW., Washington, DC 20036.

NRC Branch Chief: Michael T. Markley.

Yankee Atomic Electric Company, Docket No. 50-29, Yankee Nuclear Power Station, Franklin County, Massachusetts.

Date of Amendment Request: August 10, 2011.

Description of Amendment Request: The amendment proposes to revise License Condition C(3) “Physical Protection”. It is proposed to update the title of the Physical Security Plan, from the “Yankee Nuclear Power Station Defueled Security Plan” Revision 0, dated October 13, 1992, and “Yankee Defueled Security Training and Qualification Plan” Revision 0, dated October 13, 1992, to the “Physical Security Plan for Yankee Rowe Independent Spent Fuel Storage Installation.”

Basis for Proposed No Significant Hazards Consideration Determination: As required by 10 CFR 50.91(a), the licensee has provided its analysis of the issue of no significant hazards consideration, which is presented below:

1. Does the proposed amendment involve a significant increase in the probability or consequences of an accident previously evaluated?

Response: No.

The proposed amendment is a title change only. There is no reduction in commitments in the Physical Security Plan therefore; the proposed amendment does not involve a significant increase in the probability or consequences of an accident previously evaluated.

2. Does the proposed amendment create the possibility of a new or different kind of accident from any accident previously evaluated?

Response: No.

The proposed amendment is a title change only. There is no reduction in commitments in the Physical Security Plan therefore; the proposed amendment does not create the possibility of a new or different kind of accident from any accident previously evaluated.

3. Does the proposed amendment involve a significant reduction in a margin of safety?

Response: No.

The NRC staff has reviewed the licensee's analysis and, based on this review, it appears that the three standards of 10 CFR 50.92(c) are satisfied. Therefore, the NRC staff proposes to determine that the amendment request involves no significant hazards consideration.

Attorney for Licensee: Joseph Fay, Yankee Atomic Electric Company, 362 Injun Hollow Road, East Hampton, Connecticut, 06424-3099.

NRC Branch Chief: Michael D. Waters.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-800-397-4209, 301-415-4737 or by e-mail to pdr.resource@nrc.gov.

Calvert Cliffs Nuclear Power Plant, LLC, Docket Nos. 50-317 and 50-318, Calvert Cliffs Nuclear Power Plant, Units 1 and 2, Calvert County, Maryland, Date of Application for Amendments: May 11, 2011

Brief Description of Amendments: The amendments revise a note to Technical Specification (TS) 3.3.1, “Reactor Protective System (RPS) Instrumentation—Operating,” to change the value at which the RPS trip function, Steam Generator Pressure—Low, is bypassed from 785 psig to 785 psia. The revision corrects an administrative error that occurred during Calvert Cliffs' conversion to the Improved Standard TSs.

Date of Issuance: September 8, 2011.

Effective Date: As of the date of issuance to be implemented within 45 days.

Amendment Nos.: 300 and 277.

Renewed Facility Operating License Nos. DPR-53 and DPR-69: Amendments revised the License and Technical Specifications.

Date of Initial Notice in Federal Register: June 14, 2011 (76 FR 34766).

The Commission's related evaluation of these amendments is contained in a Safety Evaluation dated September 8, 2011.

No Significant Hazards Consideration Comments Received: No.

Dominion Energy Kewaunee, Inc. Docket No. 50-305, Kewaunee Power Station, Kewaunee County, Wisconsin

Date of Application for Amendment: July 12, 2010, as supplemented by letters dated August 5, 2010, September 23, 2010, November 10, 2010, December 13, 2010, April 4, 2011, and May 17, 2011.

Brief Description of Amendment: The amendment approves the Cyber Security Plan (CSP) and associated implementation schedule, and revises the license condition regarding physical protection to reflect such approval. The amendment specifies that the licensee fully implement and maintain in effect all provisions of the Commission-approved CSP as required by 10 CFR 73.54.

Date of Issuance: August 31, 2011.

Effective Date: This license amendment is effective as of the date of its issuance. The implementation of the CSP, including the key intermediate milestone dates and the full implementation date, shall be in accordance with the implementation schedule submitted by the licensee on April 4, 2011, and approved by the NRC staff with this license amendment. All subsequent changes to the NRC-approved CSP implementation schedule will require prior NRC approval pursuant to 10 CFR 50.90.

Amendment Nos.: 210.

Facility Operating License No. DPR-43: The amendment revised the Renewed Facility Operating License.

Date of Initial Notice in Federal Register: November 9, 2010 (75 FR 68834). The supplemental letters contain clarifying information, did not change the scope of the license amendment request, did not change the NRC staff's initial proposed finding of no significant hazards consideration determination, and did not expand the scope of the original Federal Register notice.

The Commission's related evaluation of the amendment is contained in a Safety Evaluation dated August 31, 2011.

No Significant Hazards Consideration Comments Received: No.

Duke Power Company LLC, Docket Nos. 50-369 and 50-370, McGuire Nuclear Station, Units 1 and 2, Mecklenburg County, North Carolina

Date of Application for Amendments: May 28, 2010, as supplemented by letters dated November 15, 2010, March 23, 2011, and May 2, 2011.

Brief Description of Amendments: The amendments revised the Technical Specifications to allow manual operation of the containment spray system and to change the setpoints for the refueling water storage tank.

Date of Issuance: September 12, 2011.

Effective Date: As of the date of issuance and shall be implemented prior to the first entry into Mode 4 after the refueling outage where all of the modifications associated with the amendment have been completed.

Amendment Nos.: 265/245.

Renewed Facility Operating License Nos. NPF-9 and NPF-17: Amendments revised the Licenses and the Technical Specifications.

Date of Initial Notice in Federal Register: October 5, 2010 (75 FR 61524). The supplements dated November 15, 2010, March 23, 2011, and May 2, 2011, provided additional information that clarified the application, did not expand the scope of the application as originally noticed, and did not change the staff's original proposed no significant hazards consideration determination.

The Commission's related evaluation of the amendments is contained in a Safety Evaluation dated September 12, 2011.

No Significant Hazards Consideration Comments Received: No.

Entergy Nuclear Operations, Inc., Docket No. 50-286, Indian Point Nuclear Generating Unit No. 3, Westchester County, New York

Date of application for amendment: October 6, 2010.

Brief description of amendment: The amendment revised the note in Surveillance Requirement 3.5.4.1 for the Refueling Water Storage Tank (RWST) Technical Specification (TS). Specifically, the amendment will require monitoring of the RWST temperature every 24 hours when the RWST heating steam supply isolation valves are not locked closed.

Date of Issuance: September 19, 2011.

Effective Date: As of the date of issuance, and shall be implemented within 30 days.

Amendment No.: 244.

Facility Operating License No. DPR-64: The amendment revised the License and the Technical Specifications.

Date of Initial Notice in Federal Register: December 28, 2010 (75 FR 81669).

The Commission's related evaluation of the amendment is contained in a Safety Evaluation Dated September 19, 2011.

No Significant Hazards Consideration Comments Received: No.

Entergy Operations, Inc., System Energy Resources, Inc., South Mississippi Electric Power Association, and Entergy Mississippi, Inc., Docket No. 50-416, Grand Gulf Nuclear Station, Unit 1, Claiborne County, Mississippi

Date of Application for Amendment: April 6, 2011.

Brief Description of Amendment: The amendment modified the Technical Specifications (TSs) to define a new time limit for restoring inoperable reactor coolant system (RCS) leakage detection instrumentation to operable status; establish alternate methods of monitoring RCS leakage when one or more required monitors are inoperable; and make TS Bases changes which reflect the proposed changes and more accurately reflect the contents of the facility design basis related to operability of the RCS leakage detection instrumentation. These changes are consistent with NRC-approved Revision 3 to Technical Specification Task Force (TSTF) Change Traveler TSTF-514, “Revise BWR [Boiling-Water Reactor] Operability Requirements and Actions for RCS Leakage Instrumentation,” as part of the consolidated line item improvement process.

Date of Issuance: September 12, 2011.

Effective Date: As of the date of issuance and shall be implemented within 90 days of issuance.

Amendment No: 187.

Facility Operating License No. NPF-29: The amendment revised the Facility Operating License and Technical Specifications.

Date of Initial Notice in Federal Register: May 3, 2011 (76 FR 24928).

The Commission's related evaluation of the amendment is contained in a Safety Evaluation dated September 12, 2011.

No Significant Hazards Consideration Comments Received: No.

Exelon Generation Company, LLC, Docket No. 50-289, Three Mile Island Nuclear Station, Unit 1 (TMI-1), Dauphin County, Pennsylvania

Date of Application for Amendment: September 24, 2010, supplemented by letters dated March 18, 2011, April 21, 2011, and May 27, 2011.

Brief Description of Amendment: The amendment revises Technical Specification 3.4.1.2.3, to allow up to two Main Steam Safety Valves (MSSVs) per steam generator to be inoperable with no required reduction in power level. It also revises the required maximum overpower trip setpoints for any additional inoperable MSSVs consistent with the plant transient analysis. The change requires that with less than four MSSVs associated with either steam generator operable, the plant would be required to be brought to the hot shutdown condition.

Date of Issuance: September 14, 2011.

Effective Date: Immediately, and shall be implemented within 60 days.

Amendment No.: 277.

Renewed Facility Operating License No. DPR-50: Amendment revised the license and the technical specifications.

Date of initial Notice in Federal Register: November 30, 2010 (75 FR 74096).

The supplements dated March 18, 2011, April 21, 2011, and May 27, 2011, provided additional information that clarified the application, did not expand the scope of the application as originally noticed, and did not change the NRC staff's original proposed no significant hazards determination.

The Commission's related evaluation of the amendment is contained in a Safety Evaluation dated September 14, 2011.

No Significant Hazards Consideration Comments Received: No.

NextEra Energy Duane Arnold, LLC, Docket No. 50-331, Duane Arnold Energy Center, Linn County, Iowa

Date of Application for Amendment: October 15, 2010.

Brief Description of Amendment: The amendment modifies the Duane Arnold Energy Center Renewed Facility Operating License No. DPR-49 to remove the parent company guarantee Licensing Condition and apply other administrative changes to the formatting of the affected renewed license pages.

Date of Issuance: September 8, 2011.

Effective Date: As of the date of issuance and shall be implemented within 30 days.

Amendment No.: 279.

Renewed Facility Operating License No. DPR-49: The amendment did not revise the Technical Specifications.

Date of initial notice in Federal Register: February 22, 2011 (76 FR 9825).

The Commission's related evaluation of the amendment is contained in a Safety Evaluation dated September 8, 2011.

No Significant Hazards Consideration Comments Received: No.

PPL Susquehanna, LLC, Docket Nos. 50-387 and 50-388, Susquehanna Steam Electric Station, Units 1 and 2, Luzerne County, Pennsylvania

Date of Application for Amendments: April 8, 2011.

Brief Description of Amendments: The amendments revised and added a new Condition C to Technical Specification (TS) 3.4.6, “RCS [Reactor Coolant System] Leakage Detection Instrumentation” and revise the associated TS Bases. New Condition C is applicable when the primary containment atmosphere gaseous radiation monitor is the only operable TS-required instrument monitoring RCS leakage, i.e., TS-required particulate and sump monitors are inoperable. New Condition C Required Actions require monitoring RCS leakage by obtaining and analyzing grab samples of the primary containment atmosphere every 12 hours, monitoring RCS leakage using administrative means every 12 hours, and taking action to restore monitoring capability using another monitor within 7 days. Additionally, minor editorial revisions are proposed to ensure continuity of the TS format. These changes are the result of new Condition C and consist of re-lettering existing Conditions C and D as Conditions D and E, respectively.

Date of Issuance: September 8, 2011.

Effective Date: As of the date of issuance to be implemented within 60 days.

Amendment Nos.: 256 for Unit 1 and 236 for Unit 2.

Facility Operating License Nos. NPF-14 and NPF-22: The amendments revised the Licenses and Technical Specifications.

Date of initial Notice in Federal Register: May 31, 2011 (76 FR 31376).

The Commission's related evaluation of the amendments is contained in a Safety Evaluation dated September 8, 2011.

No Significant Hazards Consideration Comments Received: No.

PSEG Nuclear LLC, Docket No. 50-354, Hope Creek Generating Station, Salem County, New Jersey

Date of Application for Amendment: September 22, 2010, as supplemented by letter dated April 28, 2011.

Brief description of Amendments: The amendment allows Hope Creek Generating Station to operate at a reduced feedwater temperature for purposes of extending the normal fuel cycle. The amendment also allows operation with feedwater heaters out-of-service at any time during the operating cycle. In addition, the amendment revises surveillance requirements related to testing of the Oscillation Power Range Monitor.

Date of Issuance: September 14, 2011.

Effective Date: As of the date of issuance, to be implemented within 90 days.

Amendment No.: 190.

Facility Operating License No. NPF-57: The amendment revised the Technical Specifications and the Facility Operating License.

Date of Initial Notice in Federal Register: January 10, 2011 (76 FR 1466). The letter dated April 28, 2011, provided clarifying information that did not change the initial proposed no significant hazards consideration determination or expand the application beyond the scope of the original Federal Register notice.

The Commission's related evaluation of the amendments is contained in a Safety Evaluation dated September 14, 2011.

No Significant Hazards Consideration Comments Received: No.

Virginia Electric and Power Company, Docket Nos. 50-338 and 50-339, North Anna Power Station, Units 1 and 2, Louisa County, Virginia

Date of application for amendment: July 12, 2010, as supplemented by letters dated August 5, 2010, September 23, 2010, November 10, 2010, December 13, 2010, April 4, 2011, and May 17, 2011.

Brief Description of Amendment: The amendments approve the cyber security plan (CSP) and associated implementation schedule, and revise the license condition regarding physical protection to reflect such approval. The amendments specify that the licensee fully implement and maintain in effect all provisions of the Commission-approved CSP as required by 10 CFR 73.54.

Date of Issuance: August 31, 2011.

Effective Date: These license amendments are effective as of the date of issuance. The implementation of the CSP, including the key intermediate milestone dates and the full implementation date, shall be in accordance with the implementation schedule submitted by the licensee on April 4, 2011, and approved by the NRC staff with this license amendment. All subsequent changes to the NRC-approved CSP implementation schedule will require prior NRC approval pursuant to 10 CFR 50.90.

Amendment Nos.: 264 (for Unit 1) and 245 (for Unit 2).

Facility Operating License Nos. NPF-4 and NPF-7: The amendments revised the Renewed Facility Operating Licenses.

Date of Initial Notice in Federal Register: December 7, 2010 (75 FR 76047). The supplemental letters contain clarifying information, did not change the scope of the license amendment request, did not change the NRC staff's initial proposed finding of no significant hazards consideration determination, and did not expand the scope of the original Federal Register notice.

The Commission's related evaluation of the amendment is contained in a safety evaluation dated August 31, 2011.

No Significant Hazards Consideration Comments Received: No.

Virginia Electric and Power Company, et al., Docket Nos. 50-280 and 50-281, Surry Power Station, Units 1 and 2, Surry County, Virginia

Date of Application for Amendment: July 12, 2010, as supplemented by letters dated August 5, 2010, September 23, 2010, November 10, 2010, December 13, 2010, April 4, 2011, and May 17, 2011.

Brief Description of Amendment: The amendments approve the cyber security plan (CSP) and associated implementation schedule, and revises the license condition regarding physical protection to reflect such approval. The amendments specify that the licensee fully implement and maintain in effect all provisions of the Commission-approved CSP as required by 10 CFR 73.54.

Date of Issuance: August 31, 2011.

Effective Date: These license amendments are effective as of the date of issuance. The implementation of the CSP, including the key intermediate milestone dates and the full implementation date, shall be in accordance with the implementation schedule submitted by the licensee on April 4, 2011, and approved by the NRC staff with this license amendment. All subsequent changes to the NRC-approved CSP implementation schedule will require prior NRC approval pursuant to 10 CFR 50.90.

Amendment Nos.: 276 (for Unit 1) and 276 (for Unit 2)

Facility Operating License Nos. DPR-32 and DPR-37: The amendments revised the Renewed Facility Operating License.

Date of initial notice in Federal Register: December 7, 2010 (75 FR 76047). The supplemental letters contain clarifying information did not change the scope of the license amendment request, did not change the NRC staff's initial proposed finding of no significant hazards consideration determination, and did not expand the scope of the original Federal Register notice.

The Commission's related evaluation of the amendment is contained in a safety evaluation dated August 31, 2011.

No Significant Hazards Consideration Comments Received: No.

Dated at Rockville, Maryland, this 22nd day of September 2011.
For the Nuclear Regulatory Commission.
Joseph G. Giitter,
Director, Division of Operating Reactor Licensing, Office of Nuclear Reactor Regulation.

[FR Doc. 2011-25492 Filed 10-3-11; 8:45 am]

BILLING CODE 7590-01-P